DEPARTMENT OF THE INTERIOR

Office of the Secretary

[BLM_HQ_FRN_MO4500181945]

National Environmental Policy Act Implementing Procedures for the Bureau of Land Management

AGENCY: Office of the Secretary, Interior.

ACTION: Notice.

SUMMARY: This notice announces the Department of the Interior's (Department) proposal to revise the National Environmental Policy Act implementing procedures for the Bureau of Land Management (BLM) at Chapter 11 of Part 516 of the Departmental Manual (DM) to add a new categorical exclusion for geothermal resource confirmation activities on Federal geothermal resource leases.

DATES: Comments must be postmarked (for mailed comments), delivered (for personal or messenger delivery comments), or filed (for electronic comments) no later than November 21, 2024.

ADDRESSES: The public can review the Substantiation Report for the proposed new CX online at: https://eplanning.blm.gov/eplanning-ui/project/2034686/510. Comments can be submitted using:

—BLM National NEPA Register: https://eplanning.blm.gov/eplanning-ui/project/2034686/510. Follow the instruction at this website.

—Mail, personal or messenger delivery: U.S. Department of the Interior, Bureau of Land Management, Attention: HQ330 Geothermal Resource Confirmation Categorical Exclusion, 1849 C Street NW, Washington, DC 20240.

FOR FURTHER INFORMATION CONTACT: Heather Bernier, Division Chief, Decision Support, Planning, and NEPA, at (303) 239-3635, or hbernier@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

The National Environmental Policy Act (NEPA), 42 U.S.C. 4321 et seq., requires Federal agencies to consider the environmental effects of their proposed actions in their decision-making processes and to inform and engage the public in that process. Section 101(a) of NEPA sets forth a national policy to use all practicable means and measures, including financial and technical assistance, in a manner calculated to foster and promote the general welfare, to create and maintain conditions under which humans and nature can exist in productive harmony, and fulfill the social, economic, and other requirements of present and future generations of Americans. 42 U.S.C. 4331(a). Section 102 of NEPA directs agencies to interpret and administer Federal policies, regulations, and laws consistent with NEPA's policies. 42 U.S.C. 4332.

To comply with NEPA, agencies determine the appropriate level of review for a proposed action: an environmental impact statement (EIS), an environmental assessment (EA), or a categorical exclusion (CX). 40 CFR 1501.3(c). If a proposed action is likely to have significant environmental effects, the agency will prepare an EIS and document its decision in a record of decision. 40 CFR part 1502, 1505.2. If the proposed action is not likely to have significant environmental effects or the level of significance is unknown, the agency will prepare an EA, which involves a more concise analysis and process than an EIS. 40 CFR 1501.5. Following preparation of an EA, the agency may reach a finding of no significant impact (FONSI) if the analysis shows that the action will have no significant effects. 40 CFR 1501.6. If, following preparation of an EA, the agency finds that the proposed action will have significant effects, it will prepare an EIS before authorizing the action. 40 CFR 1501.6(a)(3).

Under NEPA and the Council on Environmental Quality's (CEQ's) implementing regulations, a Federal agency must establish CXs—categories of actions that the agency has determined normally do not significantly affect the quality of the human environment, individually or in the aggregate—in its agency NEPA procedures. 42 U.S.C. 4336(e)(1); 40 CFR 1501.4, 1507.3(c)(8), 1508.1(e). If an agency determines that a CX covers a proposed action, the agency then evaluates the proposed action for any extraordinary circumstances in which a normally excluded action may have a significant effect. 40 CFR 1501.4(b), 1508.1(o). Responsible Officials in the Department's bureaus evaluate proposed actions for the existence of extraordinary circumstances in accordance with the Department's NEPA implementing regulations at 43 CFR 46.205 and 46.215; see also 40 CFR 1501.4(b), (b)(1)-(2).

Under NEPA, a CX is defined as “a category of actions that a Federal agency has determined normally does not significantly affect the quality of the human environment.” 42 U.S.C. 4336e. CEQ recognizes that CXs increase efficiency by reducing the resources spent analyzing proposals that normally do not have potentially significant environmental effects, thereby allowing those resources to be focused on proposals that are more likely to have significant environmental effects.¹ The appropriate use of CXs allows NEPA compliance, in the absence of extraordinary circumstances that merit further consideration, to be concluded without preparing either an EA or an EIS.

¹ Council on Environmental Quality (CEQ), Establishing, Applying, and Revising Categorical Exclusions under the Environmental Policy Act, at 2-3. November 23, 2010. https://ceq.doe.gov/docs/ceq-regulations-and-guidance/NEPA_CE_Guidance_Nov232010.pdf.

The Department's revised NEPA procedures were published in the Federal Register on October 15, 2008 (73 FR 61292), and are codified at 43 CFR part 46. Additional Department-wide NEPA policy may be found in the DM, in chapters 1 through 4 of part 516. The NEPA procedures for the Department's bureaus are published as additional chapters of DM part 516. Chapter 11 of 516 DM covers the BLM's procedures. The BLM's current procedures can be found at: https://www.doi.gov/sites/doi.gov/files/elips/documents/516-dm-11_0.pdf. These procedures address policy as well as procedure to assure compliance with the spirit and intent of NEPA.

Rationale for the Proposed New CX

The Department proposes to establish this new Geothermal Resource Confirmation (GRC) CX to facilitate the permitting of operations plans (OPs) for lessees to drill and test resource wells and expedite renewable energy development on public lands. Geothermal resource confirmation drilling usually includes at least three wells drilled into the resource to evaluate commercial viability of the resource, and to determine the extent of the resource by demonstrating communication between wells. Authorizing any OPs for post-leasing drilling operations (to directly test for and confirm the existence of a geothermal resource) currently requires the BLM to prepare an EA to comply with NEPA. The BLM's goal is to shift its analytical resources away from preparing EAs for actions that have been demonstrated to result in no significant impacts towards those that may. BLM has long experience with approval of OPs for geothermal resource confirmation operations and is familiar with the environmental effects of these activities, none of which normally result in significant or unanticipated effects to other resource values or uses.

To substantiate its determination that the proposed new GRC CX describes a category of actions that does not normally have a significant effect on the environment, individually or in the aggregate, BLM assessed the environmental effects of previously implemented geothermal resource confirmation projects by evaluating 26 BLM EAs that concluded with FONSIs and validating these environmental reviews by conducting post-implementation evaluations that confirmed the findings.

A record of the BLM's review can be found in the Substantiation Report for the proposed new CX (GRC CX Substantiation Report), which is available at https://eplanning.blm.gov/eplanning-ui/project/2034686/510, incorporated by reference here, and summarized in the Justification for Change section below. Based upon this information, the BLM has found that the establishment of a CX is appropriate because no significant effects normally result from GRC operations conducted within the proposed parameters. Establishing the proposed new CX would ensure a timely process for review and processing of operations plan applications for geothermal resource confirmation drilling and testing projects that normally do not have significant effects.

Description of Change

The Department proposes to add one CX to 516 DM 11.9 at Section B. Oil, Gas and Geothermal Energy. The language of the proposed new CX at 516 DM 11.9 B (7) is:

Approval of an operations plan for geothermal resource confirmation wells (e.g., core drilling, temperature gradient wells, and/or resource wells), including, but not limited to, construction of temporary routes for access, reclamation of all surface disturbance, and direct testing (e.g., flow tests) to confirm the existence of a geothermal resource, to improve injection support, or to demonstrate communication between wells that:

• Does not include resource utilization;

• Does not exceed 20 acres of total (contiguous or noncontiguous) surface disturbance;

• Includes reclamation of temporary routes when their intended purpose(s) has been fulfilled, unless through a separate review and decision-making process the BLM incorporates and appropriately designates a route as part of its transportation system. Unless a temporary route is specifically intended to accommodate public use, use of the temporary route is limited to project specific geothermal resource confirmation purposes;

• Requires temporary routes to be constructed and used to allow for the reclamation, by artificial or natural means, of the temporary route and areas where the vegetative cover was disturbed by the construction or use of the route, and requires such treatment to be designed to reestablish vegetative cover as soon as possible, but at least within 10 years after approved reclamation commences; and

• Includes design elements to protect resources and resource uses consistent with the applicable Resource Management Plan, laws, regulations, and lease terms.

The BLM's intent in establishing this CX is to improve the efficiency of routine environmental review processes for geothermal resource confirmation. When applying this CX, Responsible Officials at the BLM will evaluate the proposed actions to determine whether there are any extraordinary circumstances. The Department's extraordinary circumstances are listed at 43 CFR 46.215 and include, in part, consideration of impacts on public health and safety; natural resources and unique geographic characteristics as historic or cultural resources; park, recreation, or refuge lands; wilderness areas; wild or scenic rivers; national natural landmarks, sole or principal drinking water aquifers; prime farmlands; wetlands; floodplains; national monuments; migratory birds; and other ecologically significant or critical areas; unresolved conflicts concerning alternative uses of available resources; unique or unknown environmental risks; precedent for future decision-making; historic properties; listed species or critical habitat; low income or minority populations; access by Indian religious practitioners to, and for ceremonial use of, Indian sacred sites and the physical integrity of those sites; and contribution to the introduction, continued existence, or spread of invasive weeds or non-native invasive species. Responsible Officials in the BLM are required to review any proposed action for which they intend to rely on a CX, as provided at 43 CFR 46.205, by comparing it with the list at 43 CFR 46.215, and to document that review in accordance with any applicable BLM NEPA or program guidance. The Responsible Official will assess whether an extraordinary circumstance exists. If the Responsible Official cannot rely on a CX to support a decision on a particular proposed action due to extraordinary circumstances, the Responsible Official will prepare an EA or EIS, consistent with 40 CFR 1501.4(b)(2) and 43 CFR 46.205(c).

The public is asked to review and comment on the proposed new CX. To be considered, any comments on this proposed addition to the list of CXs in the DM must be received by the date listed in the DATES section of this notice at the location listed in the ADDRESSES section. Comments received after that date will be considered only to the extent practicable. Comments, including names and addresses of respondents, will be part of the public record and available for public review at the BLM address shown in the ADDRESSES section, during business hours, 8 a.m. to 4:30 p.m., Monday through Friday, except holidays. Before including your address, telephone number, email address, or other personal identifying information in your comment, you should be aware that your entire comment—including your personally identifying information—may be made publicly available at any time. While you can ask us in your comment to withhold your personal identifying information from public review, we cannot guarantee that we will be able to do so.

Justification for Change

The BLM proposes this GRC CX after reviewing existing BLM NEPA analyses and available scientific research on the effects of routine actions that would be included in the proposed new CX over time and over different geographic areas. The BLM has documented in detail the justification for establishing this new CX in the Substantiation Report, which is incorporated by reference here and available to review in full at the websites shown in ADDRESSES.

Pursuant to the Geothermal Steam Act of 1970, the BLM is responsible for issuing leases for geothermal resource development and managing resource development, in part by processing permit applications for drilling, production, and utilization (electrical generation) on the Federal mineral estate. This authority encompasses approximately 700 million acres of Federal minerals, including BLM-managed public lands, National Forest System lands, other Federal lands, as well as split estate (e.g., non-Federal surface) lands where the Federal Government has retained the mineral estate.

Geothermal energy offers the Nation a clean, domestic, and abundant renewable resource. Conventional (hydrothermal) geothermal power plants use heat energy found in rock formations containing hot water or steam below the Earth's surface to turn a turbine and generate electrical power. Geothermal energy is a baseload source of electricity, generating energy 24 hours a day, regardless of changing weather patterns; as such, geothermal energy can help bridge the gap created by the intermittent generation of power from other renewable energy sources like solar and wind. Among renewable energy sources, geothermal power plants also have the smallest amount of surface disturbance relative to electricity produced, with a generation-weighted average of 0.34 acre/Gigawatt hour. Currently, approximately seventy (~70) percent (%) of geothermal installed capacity in the United States includes Federal resources. For these reasons, the BLM's Geothermal Energy Program is a critical component of efforts to advance and diversify the Nation's energy portfolio.

The proposed new CX would support streamlined project authorization at the resource confirmation drilling phase and simplify the NEPA process. Establishment of the CX could support more efficient authorization of resource confirmation and testing, which could remove unnecessary barriers to the development of geothermal energy.

To support the development of the CX, the BLM examined 26 geothermal projects analyzed in EAs that all supported FONSIs, and that were completed between 2005-2019, to identify potential impacts resulting from the kinds of activities normally included in GRC operations plans, as outlined in the 43 CFR Subpart 3260 regulations. The NEPA documents were reviewed to determine the scope of environmental consequences anticipated to result from the proposed actions. The size and scale of GRC projects reviewed in those documents were the basis of the surface disturbance limitations chosen for the proposed CX; specifically, the BLM determined that a limit of 20 acres will exclude the largest GRC operations, which are likeliest to result in significant effects. The BLM was careful to develop the scope of the proposed GRC CX so as to include only projects that involve drilling and direct testing of a resource. Therefore, the BLM, in its analysis, excluded projects that included actual production of geothermal resources, which requires construction and operation of utilization facilities (e.g., power plants and transmission facilities). Such activities would be included and analyzed in the next phase of geothermal resource development, Utilization Operations, as outlined in the 43 CFR Subpart 3270 regulations, and are therefore beyond the scope of the intended category of activities BLM intends to exclude from further NEPA analysis with this GRC CX. BLM also reviewed 20 representative oil and gas drilling projects on Federal lands, because the activities, equipment, and surface impacts between these two types of fluid minerals are largely similar at the drilling stage.

As discussed in the Methods section of the Substantiation Report, the BLM currently relies on EAs to review GRC projects. In the EAs reviewed, no significant individual or cumulative impacts were predicted to result from the kinds of activities included in the proposed GRC CX, nor were any unanticipated impacts observed after projects were implemented. Actual impacts were the same as predicted impacts in all cases. In all instances, project design elements required by BLM regulations, resource management plans, and leases were adequate to minimize or avoid adverse impacts. None of the evaluated projects would have resulted in a need to complete an EIS for the actions proposed in this CX, had these measures not been applied as a feature of the proposed action or alternatives.

As described in the Substantiation Report, the BLM has experience analyzing and implementing GRC projects in an environmentally sustainable manner and considers the activities described in this proposal to be routine and the environmental effects of those activities to be non-significant. Expediting consideration of GRC projects is essential to improve management of geothermal resources on BLM-administered lands. Establishment of this proposed new CX would facilitate implementation of BLM priorities for identifying steps to establish and implement a program to improve Federal permit coordination with respect to eligible renewable energy projects on covered land, with the goal of accelerating responsible development of renewable energy (i.e., geothermal) on public lands.

Authorities: NEPA, the National Environmental Policy Act of 1969, as amended (42 U.S.C. 4321 et seq.); E.O. 11514, March 5, 1970, as amended by E.O. 11991, May 24, 1977; and CEQ regulations (40 CFR 1507.3).

Stephen G. Tryon,
Director, Office of Environmental Policy and Compliance.

[FR Doc. 2024-24358 Filed 10-21-24; 8:45 am]

BILLING CODE 4331-84-P